DEPARTMENT OF TRANSPORTATION

Federal Aviation Administration

14 CFR Part 39

[Docket No. FAA-2023-1999; Project Identifier MCAI-2023-00697-T]

RIN 2120-AA64

Airworthiness Directives; Airbus Defense and Space S.A. (Formerly Known as Construcciones Aeronauticas, S.A.) Airplanes

AGENCY: Federal Aviation Administration (FAA), DOT.

ACTION: Notice of proposed rulemaking (NPRM).

SUMMARY: The FAA proposes to supersede Airworthiness Directive (AD) 2021-02-18, which applies to all Airbus Defense and Space S.A. Model CN-235, CN-235-100, CN-235-200, and CN-235-300 airplanes and Model C-295 airplanes. AD 2021-02-18 requires repetitive inspections for cracking or broken rivets of certain left- and right-hand stringers and surrounding structure, and repair if necessary. Since the FAA issued AD 2021-02-18, a modification was developed to reinforce the structure in the affected area, providing terminating action for the repetitive inspections required by AD 2021-02-18. This proposed AD continues to require the actions in AD 2021-02-18 and proposes to require the new terminating action for the repetitive inspections, as specified in a European Union Aviation Safety Agency (EASA) AD, which is proposed for incorporation by reference. The FAA is proposing this AD to address the unsafe condition on these products.

DATES: The FAA must receive comments on this proposed AD by December 4, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1999; or in person at Docket Operations between 9 a.m. and 5 p.m., Monday through Friday, except Federal holidays. The AD docket contains this NPRM, the mandatory continuing airworthiness information (MCAI), any comments received, and other information. The street address for Docket Operations is listed above.

Material Incorporated by Reference:

• For material incorporated by reference in this AD, contact EASA, Konrad-Adenauer-Ufer 3, 50668 Cologne, Germany; telephone +49 221 8999 000; email Ads@easa.europa.eu; website easa.europa.eu. You may find this material on the EASA website at ad.easa.europa.eu. It is also available at regulations.gov under Docket No. FAA-2023-1999.

• You may view this material at the FAA, Airworthiness Products Section, Operational Safety Branch, 2200 South 216th St., Des Moines, WA. For information on the availability of this material at the FAA, call 206-231-3195.

FOR FURTHER INFORMATION CONTACT: Shahram Daneshmandi, Aviation Safety Engineer, FAA, 1600 Stewart Avenue, Suite 410, Westbury, NY 11590; phone: 206-231-3220; email: shahram.daneshmandi@faa.gov.

SUPPLEMENTARY INFORMATION:

Comments Invited

The FAA invites you to send any written relevant data, views, or arguments about this proposal. Send your comments to an address listed under ADDRESSES. Include “Docket No. FAA-2023-1999; Project Identifier MCAI-2023-00697-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Shahram Daneshmandi, Aviation Safety Engineer, FAA, 1600 Stewart Avenue, Suite 410, Westbury, NY 11590; phone: 206-231-3220; email: shahram.daneshmandi@faa.gov. Any commentary that the FAA receives which is not specifically designated as CBI will be placed in the public docket for this rulemaking.

Background

The FAA issued AD 2021-02-18, Amendment 39-21401 (86 FR 10740, February 23, 2021) (AD 2021-02-18), for all Airbus Defense and Space S.A. Model CN-235, CN-235-100, CN-235-200, and CN-235-300 airplanes and Model C-295 airplanes. AD 2021-02-18 was prompted by an MCAI originated by EASA, which is the Technical Agent for the Member States of the European Union. EASA issued AD 2020-0159, dated July 16, 2020 (EASA AD 2020-0159), to correct an unsafe condition.

EASA AD 2020-0159 requires repetitive inspections for cracking or broken rivets of certain left- and right-hand stringers and surrounding structure, and repair if necessary. The FAA issued AD 2021-02-18 to address such cracking in the stringers, which could result in reduced structural integrity of the airplane.

Actions Since AD 2021-02-18 Was Issued

Since the FAA issued AD 2021-02-18, EASA superseded EASA AD 2020-0159 and issued EASA AD 2023-0103, dated May 23, 2023 (EASA AD 2023-0103) (also referred to as the MCAI), to correct an unsafe condition for all Airbus Defense and Space S.A. Model CN-235, CN-235-200, and CN-235-300 airplanes and Model C-295 airplanes. The MCAI states that since EASA AD 2020-0159 was issued, a modification was developed to reinforce the structure in the affected area, which is a terminating action for the repetitive inspections required by EASA AD 2020-0159. The MCAI does not include Model CN-235-100 airplanes since a determination was made that the only remaining airplanes in service are operated by a government military service. The FAA has determined that since these models remain on the FAA type certificate data sheet that AD action is necessary to address the unsafe condition. Therefore, this proposed AD includes this model in the AD applicability and provides corrective actions to address the unsafe condition.

FAA AD 2021-02-18 explained that the requirements were “interim action,” and further rulemaking was being considered. The FAA has now determined that further rulemaking is necessary, and this proposed AD follows from that determination.

The FAA is proposing this AD to prevent cracks on certain left- and right-hand stringers in the area of frame (FR) 43 of the fuselage. This condition, if not corrected, could result in reduced structural integrity of the airplane. You may examine the MCAI in the AD docket at regulations.gov under Docket No. FAA-2023-1999.

Related Service Information Under 1 CFR Part 51

EASA AD 2023-0103 specifies procedures for detailed visual (DET) or high frequency eddy current inspections of the stringer P0a and P0a' at the riveted line of the attachment to the gusset and along the stringer head, in particular at the area of the last attachment of the gusset to the stringer in the midpoint between FR43 and FR44, DET inspections for fatigue cracks of the fuselage skin, along the stringers' footprint and surrounding structure and the attachment of the gusset to the FR43; DET inspections for fatigue cracks of the actuator bracket on FR43, along the radius of the vertical nerves, inner lug holes, and attachment holes of the bracket to FR43; DET inspections for fatigue cracks or broken rivets in the web and joint clips to skin and stringer of both sides of the frame between stringer P1d and P1d' (two stringers for each side from the central stringer P0a); DET inspections for fatigue cracks or broken rivets of the gussets, along the flange which joins FR43; and repair of any cracking or broken rivets.

EASA AD 2023-0103 also specifies procedures for modifying structures between frames FR43 and FR44, on stringers STGR0A and STGR0A': Replacing supports, formers, installing fittings, radius guards, and hardware attachments.

This material is reasonably available because the interested parties have access to it through their normal course of business or by the means identified in ADDRESSES.

FAA's Determination

This product has been approved by the aviation authority of another country and is approved for operation in the United States. Pursuant to the FAA's bilateral agreement with this State of Design Authority, it has notified the FAA of the unsafe condition described in the MCAI referenced above. The FAA is issuing this NPRM after determining that the unsafe condition described previously is likely to exist or develop in other products of the same type design.

Proposed AD Requirements in This NPRM

This proposed AD would retain certain requirements of AD 2021-02-18. This proposed AD would require accomplishing the actions specified in EASA AD 2023-0103 described previously, except for any differences identified as exceptions in the regulatory text of this proposed AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2023-0103 by reference in the FAA final rule. This proposed AD would, therefore, require compliance with EASA AD 2023-0103 in its entirety through that incorporation, except for any differences identified as exceptions in the regulatory text of this proposed AD. Using common terms that are the same as the heading of a particular section in EASA AD 2023-0103 does not mean that operators need comply only with that section. For example, where the AD requirement refers to “all required actions and compliance times,” compliance with this AD requirement is not limited to the section titled “Required Action(s) and Compliance Time(s)” in EASA AD 2023-0103. Service information required by EASA AD 2023-0103 for compliance will be available at regulations.gov under Docket No. FAA-2023-1999 after the FAA final rule is published.

Costs of Compliance

The FAA estimates that this AD, if adopted as proposed, would affect 10 airplanes of U.S. registry. The FAA estimates the following costs to comply with this proposed AD:

Estimated Costs for Required Actions
Labor cost | Parts cost | Cost per product | Cost on U.S. operators
Up to 17 work-hours × $85 per hour = Up to $1,445 | Up to $14,002 | Up to $15,447 | Up to $154,470.

The FAA has received no definitive data on which to base the cost estimates for the on-condition actions specified in this proposed AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2021-02-18, Amendment 39-21401 (86 FR 10740, February 23, 2021); and

b. Adding the following new AD:

Airbus Defense and Space S.A. (Formerly Known as Construcciones Aeronauticas, S.A.): Docket No. FAA-2023-1999; Project Identifier MCAI-2023-00697-T.

(a) Comments Due Date

The FAA must receive comments on this airworthiness directive (AD) by December 4, 2023.

(b) Affected ADs

This AD replaces AD 2021-02-18, Amendment 39-21401 (86 FR 10740, February 23, 2021) (AD 2021-02-18).

(c) Applicability

This AD applies all Airbus Defense and Space S.A. Model CN-235, CN-235-100, CN-235-200, and CN-235-300 airplanes and Model C-295 airplanes, certificated in any category.

(d) Subject

Air Transport Association (ATA) of America Code 53, Fuselage.

(e) Unsafe Condition

This AD was prompted by cracks found on certain left- and right-hand stringers in the area of frame (FR) 43 of the fuselage. The FAA is issuing this AD to address such cracking in the stringers, which could result in reduced structural integrity of the airplane.

(f) Compliance

Comply with this AD within the compliance times specified, unless already done.

(g) Requirements

Except as specified in paragraphs (h) and (i) of this AD: Comply with all required actions and compliance times specified in, and in accordance with, EASA AD 2023-0103, dated May 23, 2023 (EASA AD 2023-0103).

(h) Exceptions to EASA AD 2023-0103

(1) Where EASA AD 2023-0103 refers to its effective date, this AD requires using the effective date of this AD.

(2) This AD does not adopt the “Remarks” section of EASA AD 2023-0103.

(3) Where EASA AD 2023-0103 specifies “The SB: Airbus DS Service Bulletin (SB) SB235-53-0070C (for CN-235, CN-235-200 and CN-235-300 aeroplanes) and SB295-53-0025C (for C-295 aeroplanes), as applicable,” for this AD replace those words with “The SB: Airbus DS Service Bulletin (SB) SB235-53-0070C (for CN-235, CN-235-200 and CN-235-300 aeroplanes), SB235-53-0070M (for CN-235-100 aeroplanes), and SB295-53-0025C (for C-295 aeroplanes), as applicable.”

(4) Where EASA AD 2023-0103 specifies “Groups: Group 1 aeroplanes are CN-235, CN-235-200 aeroplanes. Group 2 aeroplanes are CN-235-300 and C-295 aeroplanes,” for this AD replace those words with “Groups: Group 1 aeroplanes are CN-235, CN-235-100, and CN-235-200 aeroplanes. Group 2 aeroplanes are CN-235-300 and C-295 aeroplanes.”

(5) Where the column header of Table 1 of EASA AD 2023-0103 is titled “Accumulated Flight Hours (FH) and Flight Cycles (FC)”, for this AD replace those words with “Accumulated Flight Hours (FH) and Flight Cycles (FC), as of March 30, 2021 (the effective date of AD 2021-02-18).”

(6) Where EASA AD 2023-0103 specifies a compliance time of “During the next A-check, or within 300 FH after 30 July 2020 [the effective date of EASA AD 2020-0159], whichever occurs later,” for this AD replace those words with “Within 300 FH after March 30, 2021 (the effective date of AD 2021-02-18).”

(7) Where EASA AD 2023-0103 specifies a compliance time of “Within 50 FH or 50 FC, whichever occurs first after 30 July 2020 [the effective date of EASA AD 2020-0159],” for this AD replace those words with “Within 50 FH or 50 FC, whichever occurs first after March 30, 2021 (the effective date of AD 2021-02-18).”

(8) Where paragraph (2) of EASA AD 2023-0103 specifies to “contact Airbus DS for approved instructions and accomplish those instructions accordingly” if discrepancies are detected, for this AD if any cracking is detected, the cracking must be repaired before further flight using a method approved by the Manager, International Validation Branch, FAA; or EASA; or Airbus Defense and Space S.A.'s EASA Design Organization Approval (DOA). If approved by the DOA, the approval must include the DOA-authorized signature.

(i) No Reporting Requirement

Although the service information referenced in EASA AD 2023-0103 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov.

(2) Contacting the Manufacturer: For any requirement in this AD to obtain instructions from a manufacturer, the instructions must be accomplished using a method approved by the Manager, International Validation Branch, FAA; or EASA; or Airbus Defense and Space S.A.'s EASA DOA. If approved by the DOA, the approval must include the DOA-authorized signature.

(3) Required for Compliance (RC): Except as required by paragraph (j)(2) of this AD, if any service information referenced in EASA AD 2023-0103 contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(k) Additional Information

For more information about this AD, contact Shahram Daneshmandi, Aviation Safety Engineer, FAA, 1600 Stewart Avenue, Suite 410, Westbury, NY 11590; phone: 206-231-3220; email: shahram.daneshmandi@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2023-0103, dated May 23, 2023.

(ii) [Reserved]

(3) For EASA AD 2023-0103, contact EASA, Konrad-Adenauer-Ufer 3, 50668 Cologne, Germany; telephone +49 221 8999 000; email ADs@easa.europa.eu; website easa.europa.eu. You may find this EASA AD on the EASA website at ad.easa.europa.eu.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: www.archives.gov/federal-register/cfr/ibr-locations.html.

Issued on October 11, 2023.
Victor Wicklund,
Deputy Director, Compliance & Airworthiness Division, Aircraft Certification Service.

[FR Doc. 2023-22885 Filed 10-17-23; 8:45 am]

BILLING CODE 4910-13-P